DEPARTMENT OF HEALTH AND HUMAN SERVICES

Food and Drug Administration

The 2001 FDA Science Forum—Science Across the Boundaries

AGENCY: Food and Drug Administration, HHS.

ACTION: Notice of meeting.

The Food and Drug Administration (FDA), Office of Science is announcing the following meeting entitled “The 2001 FDA Science Forum—Science Across the Boundaries.” The science forum is FDA's key scientific meeting that seeks to communicate and promote scientific issues relating to scientific development and associated regulatory concerns. The 2001 forum is designed to bring FDA scientists together with representatives from industry, academia, government agencies, consumers groups, international constituents, and the public to explore science across the boundaries of these groups.

Date and Time: The science forum will be held on Thursday, February 15, 2001, from 8:30 a.m. to 5 p.m., and Friday, February 16, 2001, from 8:30 a.m. to 4:30 p.m.

Location: Washington Convention Center, 900 Ninth St. NW., Washington, DC 20001.

Contact: AOAC International, Fulfillment Department, 301-924-7077, e-mail: fulfillment@aoac.org, or Donna L. Mentch, Food and Drug Administration, Office of Science (HF-33), 5600 Fishers Lane, Rockville, MD 20857, 301-827-3340, e-mail: dmentch@oc.fda.gov.

Registration: Attendees may register from 7 a.m. to 5 p.m. on February 15, 2001, and from 8 a.m. to 1 p.m. on February 16, 2001. Registration and program information are also available at http://www.aoac.org/meetings1/fdascienceforum.html. Attendance will be limited; therefore, interested parties are encouraged to register early.

Supplementary Information: Speakers and panelists will address emerging issues in privacy and confidentiality, modeling and simulation, leveraging and partnerships across FDA boundaries, and laboratory accreditation.

A poster session featuring all areas of FDA regulatory science will be presented to provide an opportunity for interested scientists to engage in information exchange with FDA scientists. The session topics to be discussed include the following:

1. Health Informational Privacy: Individual Right or Public Good;

2. Modeling and Simulation for Transdisciplinary Collaboration: The Boeing 777 Story;

3. Perspectives on Confidentiality, Conflict of Interest, and Privacy Issues Surrounding the Advancing Science of Gene Therapy;

4. Modeling and Simulation Across Pharmaceutical Boundaries;

5. Privacy and Confidentiality Issues in Registries and in Outcomes/Epidemiology Research;

6. Modeling and Simulation in Clinical Product Development for the New Millennium;

7. Scientific, Privacy, and Ethical Issues Surrounding the Advancing Science Genetic Predisposition for Breast Cancer;

8. Modeling and Simulation: The Path to the Future;

9. Scientific Training Outside the Boundaries;

10. Next Generation Leveraging;

11. Public Health Preparedness for Bioterrorism: Why Leveraging is Essential;

12. Partnering Across the Boundaries;

13. Global Partnering: Mutual Recognition Agreements and How They Affect You.

The science forum is cosponsored by FDA's Office of Science Coordination and Communication, AOAC International, and FDA's Chapter of Sigma Xi, The Scientific Research Society.

If you need special accommodations due to a disability, please contact the AOAC International at least 3 weeks in advance.

Dated: January 4, 2001.
Ann M. Witt,
Acting Associate Commissioner for Policy.

[FR Doc. 01-629 Filed 1-9-01; 8:45 am]

BILLING CODE 4160-01-F